PRESIDIO TRUST

Notice Extending Prescribed Comment Period

AGENCY: The Presidio Trust.

ACTION: Notice extending prescribed comment period.

SUMMARY: By Federal Register notice of June 13, 2008 (73 FR 33814), the Environmental Protection Agency calculated the 45-day time period for public review of the Draft Supplemental Environmental Impact Statement (SEIS). The deadline for comments was July 31, 2008. By this notice, the Presidio Trust (Trust) is extending the public comment period to September 19, 2008. Although the time for comments has been extended, the Trust requests that interested parties provide comments as soon as possible.

DATES: Written comments should be submitted on or before September 19, 2008.

ADDRESSES: Written comments may be submitted to Main Post, Attn: Compliance Manager, The Presidio Trust, 34 Graham Street, P.O. Box 29052, San Francisco, CA 94129-0052. Electronic comments can be sent to Mainpost@Presidiotrust.gov. Please be aware that all comments and information submitted will be made available to the public, including, without limitation, any postal address, e-mail address, phone number, or other information contained in each submission.

SUPPLEMENTARY INFORMATION: In accordance with the National Environmental Policy Act, the Trust is requesting public comment on the Presidio Trust Management Plan (PTMP) Main Post Update Draft SEIS. The Draft SEIS evaluates alternatives to the planning concept for the 120-acre Main Post district at the Presidio of San Francisco identified in the 2002 PTMP, the Trust's comprehensive land use plan and policy framework. The Draft SEIS considers planning proposals that were not anticipated in the PTMP, including a contemporary art museum and a lodge, and identifies Alternative 2 as the proposed action, which is further described in the PTMP Main Post Update.

Interested parties have requested that the Trust extend the public comment period. By extending the comment period, the Trust anticipates more in-depth comments on the Draft SEIS, which will promote a better-informed decision on the proposed action. The PTMP Main Post Update and Draft SEIS can be reviewed at local libraries and the Trust headquarters at the address given above, and on the Trust Web site at http://www.Presidio.gov in the Major Projects section.

Karen Cook, General Counsel, the Presidio Trust, 34 Graham Street, P.O. Box 29052, San Francisco, California 94129-0052, Telephone: 415-561-5300.

Dated: July 28, 2008.
Karen A. Cook,
General Counsel.

[FR Doc. E8-17653 Filed 7-31-08; 8:45 am]

BILLING CODE 4310-4R-P